DEPARTMENT OF VETERANS AFFAIRS Code 8320-01

[OMB Control No. 2900-NEW]

Proposed Information Collection (Board of Veterans' Appeals Voice of the Veteran Appellant Surveys) Activity: Comment Request

AGENCY: Board of Veterans Affairs, Department of Veterans Affairs.

ACTION: Notice.

SUMMARY: The Board of Veterans Affairs (BVA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments information needed to enable the Board to gauge the effectiveness of the Board's process delivering information and assistance to Veterans, as well as assess Veterans' overall level of satisfaction with the Board experience. In addition, the data will be used by the Board to make potential improvements to the Board's operational processes and service delivery, which in turn, will enable the Board to serve Veterans in the most efficient and effective way possible.

DATES: Written comments and recommendations on the proposed collection of information should be received on or before November 5, 2013.

ADDRESSES: Submit written comments on the collection of information through the Federal Docket Management System (FDMS) at www.Regulations.gov or to Sue Hamlin, BVA, (01C2), Department of Veterans Affairs, 810 Vermont Avenue NW., Washington, DC 20420 or email sue.hamlin@va.gov. Please refer to “OMB Control No. 2900-NEW Board of Veterans' Appeals Voice of the Veteran Appellant Surveys” in any correspondence. During the comment period, comments may be viewed online through FDMS.

FOR FURTHER INFORMATION CONTACT: Sue Hamlin at (202) 632-5100.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Board of Veterans' Appeals Voice of the Veteran Appellant Surveys.

OMB Control Number: 2900-NEW, Board of Veterans' Appeals Voice of the Veteran Appellant Surveys.

Type of Review: New collection.

Abstract: Currently, the Board collects customer satisfaction on a very limited basis. Surveys are distributed after the hearing is conducted relying on respondents to mail in the postcard. The survey card only measures the appellant's satisfaction with the hearing process and response rates are low. The Board will benefit from obtaining direct feedback from Veterans regarding their experience with the Board with either the hearing or non-hearing experience. Specifically, the Veterans' feedback will provide the Board three key benefits: (1) Identify what is most important to Veterans in determining their satisfaction with both the hearing and non-hearing process; (2) determine what to do to improve experience; and (3) serve to guide training and/or operational activities aimed at enhancing the quality of service provided to Veterans.

Affected Public: Individuals or Households.

Estimated Annual Burden: 32,988.

Estimated Average Burden per Respondent: 8.5 minutes.

Frequency of Response: Quarterly.

Estimated Number of Respondents: 117,816.

Dated: September 3, 2013.
By direction of the Secretary:
Crystal Rennie,
VA Clearance Officer, U.S. Department of Veterans Affairs.

[FR Doc. 2013-21699 Filed 9-5-13; 8:45 am]

BILLING CODE 8320-01-P